ENVIRONMENTAL PROTECTION AGENCY

[ER-FRL-6641-6]

Environmental Impact Statements; Notice of Availability

Responsible Agency: Office of Federal Activities, General Information (202) 564-7167 or http://www.epa.gov/compliance/nepa.

Weekly receipt of Environmental Impact Statements filed June 23, 2003 through June 27, 2003 pursuant to 40 CFR 1506.9.

EIS No. 030295, Draft EIS, AFS, OR, Flagtail Fire Recovery Project, To Address the Differences between Existing and Desired Conditions, Blue Mountain Ranger District, Malheur National Forest, Grant County, OR, Comment Period Ends: August 18, 2003, Contact: Linda Batten (541) 575-3000. This document is available on the Internet at: http://www.fs.fed.us/r6/malheur.

EIS No. 030296, Final Supplement, UAF, CA, NM, Airborne Laser (ABL) Program, Conducting Test Activities at Kirtland Air Force Base (AFB) and White Sands Missile Range/Holloman AFB, New Mexico; and Edwards AFB and Vandenberg AFB, California, NM and CA, Wait Period Ends: August 4, 2003, Contact: Charles Brown (210) 536-4203. This document is available on the Internet at: http://www.afcee.brooks.af.mil/ec/ecproducts.asp.

EIS No. 030297, FINAL EIS, AFS, MT, Garver Project, Harvest and Old Growth Regeneration, Implementation, Kootenai National Forest, Three Rivers Ranger District, Lincoln County, MT, Wait Period Ends: August 4, 2003, Contact: Kathy Mohar (406) 295-4693.

EIS No. 030298, Draft EIS, NRC, ID, Idaho Spent Fuel Facility, Construction, Operation and Decommission, License Application, Idaho National Engineering and Environmental Laboratory, Butte County, ID, Comment Period Ends: August 18, 2003, Contact: Matthew Blevins (301) 415-7684. This document is available on the Internet at: http://www.nrc.gov/reading-rm.html.

EIS No. 030299, Draft EIS, NRC, NY, Generic—License Renewal for R.E. Ginna Nuclear Power Plant, Supplement 14, NUREG-1437, Implementation, Wayne County, NY, Comment Period Ends: September 16, 2003, Contact: Robert G. Schaaf (301) 415-1312. This document is available on the Internet at: http://www.fs.fed.us/r4/Payette/main.html.

EIS No. 030300, Final EIS, FHW, FL, St. Augustine Bridge of Lions (SR AIA) Rehabilitation or Replacement of the existing two lane bridge Crossing over the Matanzas River, Intracoastal Waterway, U.S. Coast Guard Bridge Permit and NPDES Permit Issuance, St. Augustine, St. John County, FL, Wait Period Ends: August 6, 2003, Contact: Donald E. Davis (850) 942-9650.

EIS No. 030301, Final EIS, UAF, CA, Los Angeles Air Force Base Land Conveyance, Construction and Development Project, Transfer Portions of Private Development in Exchange for Construction of New Seismically Stable Facilities, Cities of EL Sequndo and Hawthorne, Los Angeles County, CA, Wait Period Ends: August 18, 2003, Contact: Jason Taylor (310) 363-0142.

EIS No. 030302, Draft EIS, FRC, FL, Ocean Express Pipeline Project, Construction, Operation and Maintenance of a Interstate Natural Gas Pipeline extending from the Exclusive Economic Zone (EEZ) boundary between the United States and the Bahamas, (Docket No. CP02-090-001-1) Plan of Operations Approval, NPDES and U.S. Army COE Section 10 and Possible 404 Permits, Broward County, FL, Comment Period Ends: August 25, 2003, Contact: Tom Russo (202) 502-8004. This document is available on the Internet at: http://www.ferc.gov.

EIS No. 030303, Draft EIS, TVA, TN, KY, MS, VA, AL, GA, NC, Programmatic EIS—Tennessee Valley Authority Reservoir Operations Study, Implementation, TN, AL, KY, GA, MS, NC and VA, Comment Period Ends: September 4, 2003, Contact: Linda Shipp (865) 632-3440.

Amended Notices

EIS No. 030150, Draft EIS, AFS, WI, Programmatic EIS—Cheguamegon-Nicolet National Forests Revised Land and Resource Management Plan, Implementation, Ashland, Bayfield, Florence, Forest, Langlade, Oconto, Oneida, Price, Sawyer, Taylor and Vilas Counties, CA, Comment Period Ends: August 11, 2003, Contact: Sally Hess-Samulson (715) 362-1384. Revision of FR Notice Published on 4/11/2003: CEQ Comment Period Ending 7/11/2003 has been Extended to 8/11/2003.

Dated: June 30, 2003.
Joseph C. Montgomery,
Director, NEPA Compliance Division, Office of Federal Activities.

[FR Doc. 03-16847 Filed 7-2-03; 8:45 am]

BILLING CODE 6560-50-P